DEPARTMENT OF COMMERCE

International Trade Administration

[A-549-807]

Certain Carbon Steel Butt-Weld Pipe Fittings From Thailand: Preliminary Notice of Intent To Rescind Administrative Review

AGENCY: Import Administration, International Trade Administration, Department of Commerce

ACTION: Preliminary notice of intent to rescind administrative review.

SUMMARY: On August 27, 2002, we published the notice of initiation of this antidumping duty review with respect to Thai Benkan Corporation, Ltd., (TBC). See Initiation of Antidumping and Countervailing Duty Administrative Reviews and Requests for Revocation in Parr, 67 FR 55000 (August 27, 2002) (Notice of Initiation). We have preliminarily determined that the review of TBC should be rescinded.

EFFECTIVE DATE: March 24, 2003.

FOR FURTHER INFORMATION CONTACT: Zev Primor or Tom Futtner, Antidumping/Countervailing Duty Enforcement, Office 4, Group II, Import Administration, International Trade Administration, U.S. Department of Commerce, 14th Street and Constitution Avenue, NW., Washington, DC 20230; telephone: (202) 482-4114 or 482-3814, respectively.

SUPPLEMENTARY INFORMATION:

Background

On July 6, 1992, the Department of Commerce (the Department) published in the Federal Register an antidumping duty order on certain carbon steel butt-weld pipe fittings from Thailand (57 FR 29702). On July 1, 2002, the Department published a “Notice of Opportunity to Request an Administrative Review” on pipe fittings from Thailand (67 FR 44172). On July 31, 2002, the petitioner in this proceeding, Trinity Fitting Group, requested, in accordance with section 351.213(b) of the Department's regulations, an administrative review of the antidumping duty order on pipe fittings from Thailand covering the period July 1, 2001, through June 30, 2002. On August 15, 2002, TBC submitted a letter certifying that neither it nor its U.S. affiliate, Benkan America, Inc., sold, exported or shipped for entry and/or consumption in the United States subject merchandise during the period of review (POR). We published a notice of initiation of the review with respect to TBC on August 27, 2002. See Notice of Initiation.

Scope of the Review

The product covered by this order is certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel pipe fittings are currently classified under subheading 7307.93.30 of the Harmonized Tariff Schedule of the United States (HTSUS). Although the HTSUS subheadings are provided for convenience and customs purposes, our written description of the scope of this proceeding is dispositive.

Rescission of Administrative Review

As stated above, TBC submitted a letter certifying that neither it nor its U.S. affiliate Benkan America, Inc., sold, exported, or shipped for entry and/or consumption in the United States during the POR. Based on the Department's shipment data query, we are preliminarily treating TBC as a non-shipper for the purpose of this review. See Data Query (September 10, 2002). Therefore, in accordance with section 351.213(d)(3) of the Department's regulations, and consistent with our practice, we preliminarily determine to rescind this review. Interested parties may submit comments on these preliminary results. See e.g., Certain Large Diameter Carbon and Alloy Seamless Standard, Line and Pressure Pipe from Mexico: Preliminary Notice of Intent to Rescind Administrative Review, (67 FR 56531) (September 4, 2002); Stainless Steel Bar from India; Preliminary Results of Antidumping Duty Administrative Review and New Shipper Review, and Partial Rescission of Administrative Review, (65 FR 12209) (March 8, 2000).

Any interested party may request a hearing within 30 days of the date of publication of this preliminary notice. See 19 CFR 351.309. Any hearing, if requested, will be held 44 days after the date of publication, or the first working day thereafter. Interested parties may submit briefs no later than 30 days after the date of publication of this preliminary notice. Rebuttal briefs, limited to issues raised in such briefs, may be filed no later than 37 days after the date of publication. Parties who submit arguments in this proceeding are requested to submit with each argument: (1) A statement of the issue; and (2) a brief summary of the argument. Further, parties submitting written comments should provide the Department with an additional copy of the public version of any such comments on diskette.

The Department will publish a notice of the final results of this administrative review, which will include the results of its analysis of the issues raised in any written comments or at the hearing, within 120 days from the publication of these preliminary results.

This notice is in accordance with sections 751(a)(1) of the Tariff Act of 1930, as amended, and section 351.213(d) of the Department's regulations.

Dated: March 14, 2003.
Holly A. Kuga,
Acting Deputy Assistant Secretary for Import Administration.

[FR Doc. 03-6930 Filed 3-21-03; 8:45 am]

BILLING CODE 3510-DS-M